GOVERNMENT PUBLISHING OFFICE

Meeting of the Depository Library Council to the Acting Deputy Director

The Depository Library Council (DLC) to the Acting Deputy Director, Government Publishing Office (GPO) will meet on Monday, October 22, 2018 through Wednesday, October 24, 2018 in Arlington, Virginia. The sessions will take place from 8:00 a.m. to 5:30 p.m., Monday and Tuesday and 8:00 a.m. to 11:30 p.m., on Wednesday. The meeting will be held at the Doubletree Hotel, 300 Army Navy Drive, Arlington, Virginia. The purpose of this meeting is to discuss the Federal Depository Library Program. All sessions are open to the public. The United States Government Publishing Office is in compliance with the requirements of Title III of the Americans with Disabilities Act and meets all Fire Safety Act regulations.

Herbert H. Jackson, Jr.,
Acting Deputy Director, U.S. Government Publishing Office.

[FR Doc. 2018-21418 Filed 10-5-18; 8:45 am]

BILLING CODE 1520-01-M